DEPARTMENT OF TRANSPORTATION

National Highway Traffic Safety Administration

[Docket No. NHTSA 2000-7291; Notice 1]

General Motors Corporation; Receipt of Application for Determination of Inconsequential Non-Compliance

General Motors Corporation (GM) has applied to be exempted from the notification and remedy requirements of 49 U.S.C. Chapter 301 “Motor Vehicle Safety” for a noncompliance with Federal Motor Vehicle Safety Standard (FMVSS) No. 208, “Occupant Crash Protection,” on the basis that the noncompliance is inconsequential to motor vehicle safety. GM has filed a report of a noncompliance pursuant to 49 CFR part 573 “Defects and Noncompliance Report.”

This notice of receipt of the application is published under 49 U.S.C. 30118 and 30120 and does not represent any agency decision or other exercise of judgement concerning the merits of the application.

Description of Noncompliance

GM has identified a condition in which the required seat belt audible signal on some 1996-99 Model Year Chevrolet Astro and GMC Safari vans may occasionally operate for less than the 4 to 8 second time required. Upon such occurrence, the signal would not fully comply with the audible signal portion of the S7.3 seat belt warning provision of FMVSS No. 208. GM has submitted a 49 CFR 573.5 noncompliance notification to the agency which details the affected vehicles. Pursuant to section 30118(d) and 30120(h) of Chapter 301 and 49 CFR part 556, and for reasons set forth, GM requested exemption from the notification, and remedy provisions of 49 U.S.C. 30118 and 30120 on the basis that the noncompliance is inconsequential to motor vehicle safety.

“A total of 461,851 1996-99 MY Chevrolet Astro and GMC Safari vans were built with an audible driver seat belt warning system that may, in a random manner (1) operate properly, (2) terminate the audible signal in less than the minimum 4 second requirement, or (3) not operate at all. The possibility of a random noncompliance results from a transient signal being generated at the seat belt switch input to the audible signal module when the ignition switch is turned to start and the belt latch mechanism is not fastened. The module may interpret this transient signal input as the seat belt latch mechanism being fastened and thereby terminate the audible tone. The condition is caused by a ground voltage difference between the seat belt switch and the signal module creating a transient signal that the module was not designed to filter. At the time the subject module and associated wiring harness were developed, GM truck engineering did not have a formal requirement for electrical grounding and module input filtering.”

“A new module and wiring harness were implemented at the assembly plant in January 1999, that changed this condition. To prevent this issue in the future, electrical grounding rules that define specific requirements for modules and their inputs have been implemented to evaluate all electrical ground designs during the design review process. This condition is not present in other GM vehicles with the same signal module because the respective component ground is compatible with the module design in other GM products. GM also has reviewed its warranty is information regarding the subject vehicle's audible signal. There has been no change in the occurrences of customer warranty claims regarding the seat belt audible signal for the 1995 vehicles, produced prior to this issue, and the warranty claim made on the vehicles involved.”

Supporting Information Submitted by General Motors

It is GM's understanding that the purpose of the seat belt warning requirement is to provide a reminder to the vehicle's driver to wear a seat belt. Section 7.3 of FMVSS 208 currently allows a manufacturer two alternatives for complying with the seat belt warning requirements. As Option 1, S7.3(a)(1) essentially requires (1) an audible signal of 4 to 8 seconds, and (2) a minimum 60 second telltale light when the driver seat belt is unbuckled and the ignition is moved to the “on” or “start” position. If the driver seat belt is buckled, neither the audible signal nor the telltale light should be activated when the ignition is turned to the “on” or “start” position. As Option 2, S7.3 (a)(2) essentially requires (1) an audible signal of 4 to 8 seconds when the driver seat belt is unlocked and the ignition is moved to the “on” or “start” position, and (2) a 4 to 8 second telltale light whenever the ignition is moved to the “on” or “start” position, whether or not the driver seat belt is buckled.

The subject vehicles were designed to Option 1 and comply with the portion of the requirements to activate a continuous or flashing warning light for a minimum of 60 seconds if the ignition is turned to the “on” or “start” position and the driver seat belt is not buckled, thus notifying a driver that he/she is not buckled up. Specifically, the subject vehicles comply with this portion of the requirement by displaying a continuous warning light for approximately the first 20 seconds and then a flashing light for approximately 55 seconds if the driver belt is not buckled. The subject vehicles, therefore, provide a visual warning signal that exceeds the 60 second duration requirement of Option 2. Furthermore, the design duration of 75 seconds for the visual signal provides a considerable enhancement over the 4 to 8 second duration requirement allowed by Option 2.

GM believes that the subject vehicles provide an enhanced visual seat belt warning indicator to remind the driver to wear a seat belt. Under these particular conditions, GM believes that the noncompliance to S7.3 f FMVSS 208 is inconsequential as it relates to motor vehicle safety, and therefore, requests the affected vehicles exempted from the notification, recall and remedy provisions of Section 30120 of the Safety Act.

Interested persons are invited to submit written data, views and arguments on the petition of GM, described above. Comments should refer to the Docket Number and be submitted to: Docket Management, National Highway Traffic Safety Administration, Room PL 401, 400 7th Street, SW., Washington, DC 20590. It is requested that two copies be submitted.

All comments received before the close of business on the closing date indicated below will be considered. The application and supporting materials, and all comments received after the closing date will also be filed and will be considered to the extent practicable. When the application is granted or denied, a Notice will be published in the Federal Register pursuant to the authority indicated below.

Comment closing date: June 26, 2000.

(49 U.S.C. 30118, 30120; delegations of authority at 49 CFR 1.50 and 49 CFR 501.8)
Issued on: May 22, 2000.
Stephen R. Kratzke,
Associate Administrator for Safety Performance Standards.

[FR Doc. 00-13272 Filed 5-25-00; 8:45 am]

BILLING CODE 4910-59-P